DEPARTMENT OF AGRICULTURE

Rural Housing Service

Notice of Funds Availability for Section 525 Technical and Supervisory Assistance (TSA) Grants

Announcement Type: Initial Notice of Funds Availability (NOFA) inviting applications from qualified organizations for Fiscal Year 2004 funding.

Catalog of Federal Domestic Assistance Number (CFDA): 10.441.

SUMMARY: The Rural Housing Service (RHS) announces it is soliciting competitive applications under its Technical and Supervisory Assistance (TSA) grant program. Grants will be awarded to eligible applicant organizations to conduct programs of technical and supervisory assistance for low-income rural residents to obtain and/or maintain occupancy of adequate housing.

DATES: The deadline for receipt of preapplication proposals by Rural Development State Offices is the close of business on August 2, 2004. Preapplications received after August 2, 2004 will not be considered for funding. Within 30 days after the closing date, each State Director will forward to the National Office the original preapplication(s) and supporting documents of the selected applicant. State Directors will be advised of the National Office's action on their selected preapplications.

FOR FURTHER INFORMATION CONTACT: Donn Appleman, Senior Loan Specialist, USDA Rural Development, Single Family Housing Direct Loan Division, Special Programs and New Initiatives Branch, Mail Stop 0783, Room 2209-S, 1400 Independence Avenue SW., Washington, DC 20250-0783, phone: (202) 690-0510 or (202) 720-1474, e-mail: donn.appleman@usda.gov, or FAX: (202) 690-9909.

SUPPLEMENTARY INFORMATION:

Paperwork Reduction Act

The information collection requirements contained in this Notice have received temporary emergency clearance by the Office of Management and Budget (OMB) under Control Number 0575-0188. However, in accordance with the Paperwork Reduction Act of 1995, RHS will seek standard OMB approval of the reporting requirements contained in this Notice and hereby opens a 60-day public comment period.

Title: Technical and Supervisory Assistance Grants.

Type of Request: New collection.

Abstract: RHS is authorized under Section 525 of Title V of the Housing Act of 1949, as amended, to make grants to or to enter into contracts to pay part or all of the cost of developing, conducting, administering or coordinating effective and comprehensive programs of technical and supervisory assistance which will aid needy low-income individuals and families in benefiting from Federal, State and local housing programs in rural areas.

Recipient public or private nonprofit corporations, agencies, institutions, organizations, Indian tribes and other associations assist low-income individuals by providing homeownership and financial counseling to reduce both the potential for delinquency by loan applicants and the level of payment delinquency by present Rural Development borrowers. RHS refers to this program as Technical and Supervisory Assistance. This NOFA sets forth the eligibility and application requirements.

Information will be collected from applicants and grant recipients by Rural Development staff in its Local, Area, State and National offices. This information will be used to determine applicant eligibility for a grant, to determine project feasibility, to select grants for funding, and to monitor performance of selected grantees. If an applicant's proposal is selected for funding, it will be notified of the selection and given the opportunity to submit a formal application.

Estimate of Burden: Public reporting burden for this collection of information is estimated to average 1.7 hours per response.

Respondents: Public and private nonprofit corporations, agencies, institutions, organizations, and Indian tribes.

Estimated Number of Respondents: 50.

Estimated Number of Responses per Respondent: 13.7.

Estimated Number of Responses: 684.

Estimated Total Annual Burden on Respondents: 1,185 hours.

Copies of this information collection can be obtained from Tracy Givelekian, Regulations and Paperwork Management Branch, at (202) 692-0039.

Comments

Comments are invited on: (a) Whether the proposed collection of information is necessary for the proper performance of the functions of RHS, including whether the information will have practical utility; (b) the accuracy of RHS' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, Rural Development, STOP 0742, 1400 Independence Ave. SW., Washington, DC 20250-0742. All responses to this notice will be summarized and included in the request for OMB approval. All comments will also become a matter of public record.

Overview

This notice is published as required by 7 CFR 1944.525(b) and 1944.528, which states the RHS Administrator must provide annual notice in the Federal Register on the distribution of appropriated TSA funds, the number of preapplications to be submitted to the National Office from the State Offices, the maximum grant amount per project, and the dates governing the review and selection of TSA grant preapplications.

Complete agency regulations for the TSA program are contained in RD Instruction 1944-K, accessible online at http://rdinit.usda.gov/regs, or in 7 CFR part 1944, subpart K.

Up to $2,000,000 in competitive grants will be awarded to eligible applicants. No single award will exceed $100,000, except single awards for TSA programs conducted in multiple states or by multiple groups. Funding to any state or territory will be limited to 10 percent of available funds, including any portion of a multi-state award.

In accordance with 7 CFR 1944.525, the Administrator of RHS will distribute a portion of the funds to those States with the highest degree of substandard housing and persons in poverty in rural areas eligible to receive RHS housing assistance. These States are: Texas, California, North Carolina, Georgia, Mississippi, Louisiana, Kentucky, Alabama, Florida, and Pennsylvania. Up to $1,000,000 will be targeted to eligible TSA programs in these States. Remaining funds will be available for national competition.

No more than one grant per State will be awarded from targeted funds. Additional projects in targeted States may be considered for funding from non-targeted funds. Multi-state awards will not be made from targeted funds.

Applications for multi-state programs must designate the portion of funds to be spent and services to be provided in each state. No single multi-state program may be awarded more than $200,000.

The State Director may submit multiple preapplications, ranked in order of preference, to the National Office for consideration.

The performance period of grant activities will be two years from the date the grant agreement is executed.

Reimbursement of pre-award costs is not allowed.

To be eligible for a grant, the applicant must be a nonprofit corporation, agency, institution, organization, Indian tribe or other association. A private nonprofit corporation, which is owned and controlled by private persons or interests, must have local representation from the area being served, be organized and operated by private persons or interests for purposes other than making gains or profits for the corporation, and be legally precluded from distributing any gains or profits to its members. Faith-based organizations that meet these requirements may apply. Cost sharing is not required but is encouraged. In the selection of grant recipients, the Agency will consider the extent to which the project will make use of other financial and contribution-in-kind resources for both technical and supervisory assistance and housing development and supporting facilities. Applications and complete program instructions are available at any Rural Development Area Office, listed on the Internet at www.rurdev.usda.gov. Federal grant application forms are available in electronic format at www.whitehouse.gov/omb/grants/grants_forms.html.

Program Administration

I. Funding Opportunity Description

Under section 525 (a) of the Housing Act of 1949, 42 U.S.C. 1490e(a), Rural Development provides funds to eligible applicants to conduct programs of technical and supervisory assistance (TSA) for low-income rural residents to obtain and/or maintain occupancy of adequate housing. Any processing or servicing activity involving authorized assistance to Rural Development employees, members of their families, known close relatives, or business or close personal associates, is subject to the provisions of 7 CFR part 1900, subpart D. Applicants for this assistance are required to identify any known relationship or association with a Rural Development employee. This financial assistance may pay part or all of the cost of developing, conducting, administering, or coordinating effective and comprehensive programs of technical and supervisory assistance which will aid needy low-income individuals and families in benefiting from Federal, State, and local programs in rural areas. Rural Development will provide technical and supervisory grant assistance to applicants without discrimination because of race, color, religion, sex, national origin, age, marital status, or physical or mental disability.

Policy: The policy of Rural Development is to provide technical and supervisory assistance to eligible applicants to do the following:

(1) Provide homeownership and financial counseling to reduce both the potential for delinquency by loan applicants and the level of payment delinquency by present Rural Development housing loan borrowers; and

(2) Facilitate the delivery of housing programs to serve the most needy low-income families in rural areas of greatest need for housing.

Rural Development intends to fund projects which include counseling and delivery of housing programs.

State Directors are given a strong role in the selection of grantees so this program can complement Rural Development's policies of targeting Rural Development resources to areas of greatest need within their States.

Objectives: The objectives of the TSA Grant Program are to assist low-income rural families in obtaining adequate housing to meet their family's needs and/or to provide the necessary guidance to promote their continued occupancy of already adequate housing. These objectives will be accomplished through the establishment or support of housing delivery and counseling projects run by eligible applicants. This program is intended to make use of any available housing program which provides the low-income rural resident access to adequate rental properties or homeownership.

Definitions: References to Local, Area, State, National and Finance Offices and to State Director, and Administrator refer to Rural Development offices and officials and should be read as prefaced by Rural Development. Terms used here have the following meanings:

Adequate housing. A housing unit of adequate size and design to meet the specific needs of low-income families and the requirements governing the particular housing program providing the services or financial assistance.

Applicant or grantee. Any eligible organization which applies for or receives TSA funds under a grant agreement.

Grant agreement. The contract between Rural Development and the applicant which sets forth the terms and conditions under which TSA funds will be made available.

Low-income family. Any household, including those with one member, whose adjusted annual income, computed in accordance with 7 CFR 3550.54 (c), does not exceed the Housing and Urban Development (HUD) established low-income limit (generally 80 percent of the median income adjusted for household size) for the county or Metropolitan Statistical Area where the property is or will be located.

Organization. Public or private nonprofit corporations, agencies, institutions, Indian tribes and other associations. A private nonprofit corporation, which is owned and controlled by private persons or interests, must have local representation from the area being served, be organized and operated by private persons or interests for purposes other than making gains or profits for the corporation, and be legally precluded from distributing any gains or profits to its members. Faith-based organizations may meet these requirements;

Rural area. The definition in 7 CFR 3550.10 applies.

Sponsored applicant. An eligible applicant which has a commitment of financial and/or technical assistance to apply for the TSA program and to implement such a program from a state, county, municipality, or other governmental entity or public body.

Supervisory assistance. Any type of assistance to low-income families which will assist those families in meeting the eligibility requirements for, or the financial and managerial responsibilities of, homeownership or tenancy in an adequate housing unit. Such assistance must include, but is not limited to, the following activities: (1) Assisting individual Rural Development borrowers with financial problems to overcome delinquency and/or prevent foreclosure and assisting new low-income applicants avoid financial problems through:

(i) Financial and budget counseling including advice on debt levels, credit purchases, consumer and cost awareness, debt adjustment procedures, and availability of other financial counseling services;

(ii) Monitoring payment of taxes and insurance;

(iii) Home maintenance and management; and

(iv) Other counseling based on the needs of the low-income families.

(2) Contacting and assisting low-income families in need of adequate housing by:

(i) Implementing an organized outreach program using available media and personal contacts;

(ii) Explaining available housing programs and alternatives to increase the awareness of low-income families and to educate the community as to the benefits which can accrue from improved housing;

(iii) Assisting low-income families to locate adequate housing;

(iv) Providing construction supervision, training, and guidance to low-income families not involved in Mutual Self-Help programs who are otherwise being assisted by the TSA project;

(v) Organizing local public or private nonprofit groups willing to provide adequate housing for low-income families; and

(vi) Providing assistance to families and organizations in processing housing loan and/or grant applications generated by the TSA program, including developing and packaging such applications for new construction, rehabilitation, or repair to serve low-income families.

Technical assistance. Any specific expertise necessary to carry out housing efforts by or for low-income families to improve the quantity and/or quality of housing available to meet their needs. Such assistance should be specifically related to the supervisory assistance provided by the project, and may include, as appropriate, the following activities:

(1) Develop, or assist eligible applicants to develop, multi-housing loan and/or grant applications for new construction, rehabilitation, or repair to serve low-income families.

(2) Market surveys, engineering studies, cost estimates, and feasibility studies related to applications for housing assistance to meet the specific needs of the low-income families assisted under the TSA program.

Grant purposes: Grant funds are to be used for a housing delivery system and counseling program to include a comprehensive program of technical and supervisory assistance as set forth in the grant agreement and any other special conditions as required by Rural Development. Uses of grant funds may include, but are not limited to:

(1) The development and implementation of a program of technical and supervisory assistance as defined in 7 CFR 1944.506 (h) and (i).

(2) Payment of reasonable salaries of professional, technical, and clerical staff actively assisting in the delivery of the TSA project.

(3) Payment of necessary and reasonable office expenses such as office supplies and office rental, office utilities, telephone services, and office equipment rental.

(4) Payment of necessary and reasonable administrative costs such as workers' compensation, liability insurance, audit reports, travel to and attendance at Rural Development approved training sessions, and the employer's share of Social Security and health benefits. Payments to private retirement funds are prohibited unless prior written authorization is obtained from the Administrator.

(5) Payment of reasonable fees for necessary training of grantee personnel. This may include the cost of travel and per diem to attend regional training sessions when authorized by the State Director.

(6) Other reasonable travel and miscellaneous expenses necessary to accomplish the objectives of the specific TSA grant which were anticipated in the individual TSA grant proposal and which have been included as eligible expenses at the time of grant approval.

Ineligible Activities: Grant funds may not be used for:

(1) Acquisition, construction, repair, or rehabilitation of structures or acquisition of land, vehicles, or equipment.

(2) Replacement of or substitution for any financial support which would be available from any other source.

(3) Duplication of current services in conflict with the requirements of 7 CFR 1944.514(c).

(4) Hiring personnel to perform construction.

(5) Buying property of any kind from families receiving technical or supervisory assistance from the grantee under the terms of the TSA grant.

(6) Paying for or reimbursing the grantee for any expenses or debts incurred before Rural Development executes the grant agreement.

(7) Paying any debts, expenses, or costs which should be the responsibility of the individual families receiving technical and supervisory assistance.

(8) Any type of political activities.

(9) Other costs including contributions and donations, entertainment, fines and penalties, interest and other financial costs, legislative expenses and any excess of cost from other grant agreements.

Advice and assistance may be obtained from the National Office where ineligible costs are proposed as part of the TSA project or where a proposed cost appears ineligible.

The grantee may not charge fees or accept compensation or gratuities from TSA recipients for the grantee's assistance under this program.

Comprehensive TSA programs include: Outreach to the community and education of low-income families as to the benefits which can accrue from improved housing, including counseling on affording a home, obtaining a housing loan, and understanding predatory lending practices; loan packaging and assistance in the homebuying process, including reviewing client credit history, screening for housing loan eligibility for Rural Development Section 502 loans or similar loans, assisting clients to complete applications, advising clients on home selection and matters related to home financing, and providing post-purchase counseling; and, assisting individual Rural Development borrowers with financial problems to overcome delinquency and/or prevent foreclosure.

II. Award Information

Up to $2,000,000 in competitive grants will be awarded to eligible applicants. It is estimated that 25 grants will be awarded with these funds.

TSA projects will be funded under one Grant Agreement for two years commencing on the date of execution of the Agreement by the State Director. The Grant Agreement is contained as Exhibit A to RD Instruction 1944-K (available in any Rural Development office).

Performance of the grant program should begin within 60 days of award notification.

Applications for renewal or supplementation of existing TSA programs are eligible to compete with applications for new awards.

III. Eligibility Information

Grants provide funds to eligible applicant organizations to conduct programs of technical and supervisory assistance (TSA) for low-income rural residents to obtain and/or maintain occupancy of adequate housing.

Applicant eligibility. To be eligible to receive a grant, the applicant must:

(1) Be an organization as defined in 7 CFR 1944.506(e).

(2) Have the financial, legal, administrative, and operational capacity to assume and carry out the responsibilities imposed by the grant agreement. To meet this requirement of actual capacity, it must either:

(i) Have necessary background and experience with proven ability to perform responsibly in the field of low-income rural housing development and counseling, or other business management or administrative experience which indicates an ability to provide responsible technical and supervisory assistance; or

(ii) Be assisted by an organization which has such background experience and ability and which agrees in writing that it will provide, without charge, the assistance the applicant will need to carry out its responsibilities.

(3) Legally obligate itself to administer TSA funds, provide an adequate accounting of the expenditure of such funds, and comply with the grant agreement and Rural Development regulations;

(4) Demonstrate an understanding of the needs of low-income rural families;

(5) Have the ability and willingness to work within established guidelines; and

(6) If the applicant is engaged in or plans to become engaged in any other activities, it must be able to provide sufficient evidence and documentation that it has adequate resources, including financial resources, to carry on any other programs or activities to which it is committed without jeopardizing the success and effectiveness of its TSA project.

Cost sharing or matching. There is no cost sharing or matching requirement. However, applicants who submit evidence of cost sharing will receive points under Selection Criteria, paragraph (2)(iv).

Other administrative requirements. The following policies and regulations apply to grants made under this program:

(1) The policies and regulations contained in 7 CFR part 1901, subpart E regarding equal opportunity requirements.

(2) The policies and regulations contained in 7 CFR part 1901, subpart F regarding historical and archaeological properties.

(3) The policies and regulations contained in 7 CFR part 1940, subpart G regarding Environmental Assessments.

IV. Application and Submission Information

The Federal government requires that all applicants for Federal grants and cooperative agreements with the exception of individuals other than sole proprietors, have a DUNS number. The Federal government will use the DUNS number to better identify related organizations that are receiving funding under grants and cooperative agreements, and to provide consistent name and address data for electronic grant application systems. More information on this policy and how to obtain a DUNS number is available at http://www.whitehouse.gov/omb/grants/grants_forms.html.

Preapplication submission

(1) All applicants will file an original and two copies of the preapplication, including supporting information detailed below, with the appropriate State Office serving the proposed TSA area. Pre-applications will consist of: Standard Form 424 (Form SF-424), “Application for Federal Assistance;” Form SF-424A, “Budget Information—Non-Construction Programs;” Form SF-424B, “Assurances—Non-Construction Programs;” and supporting documentation as detailed below. The applicant organization's DUNS number must be provided.

If the TSA area encompasses more than one State Office, the preapplication will be filed at the State Office which serves the area in which the grantee will provide the greatest amount of TSA efforts. Additional informational copies of the preapplication will be sent by the applicant to the other affected State Office(s). Applications for multi-state projects must designate the portion of funds and services to be provided to each state.

Preapplication packages must be received prior to the deadline at a Rural Development State Office. State Office addresses and contacts are:

Alabama State Office, Suite 601, Sterling Centre, 4121 Carmichael Road, Montgomery, AL 36106-3683, (334) 279-3618, TDD (334) 279-3495, Mr. Vann L. McCloud.

Alaska State Office, 800 West Evergreen, Suite 201, Palmer, AK 99645, (907) 761-7705, ext. 740, TDD (907) 761-8905, Deborah Davis.

Arizona State Office, Phoenix Corporate Center, 3003 N. Central Ave., Suite 900, Phoenix, AZ 85012-2906, (602) 280-8755, TDD (602) 280-8706, Don Irby.

Arkansas State Office, 700 W. Capitol Ave., Rm. 3416, Little Rock, AR 72201-3225, (501) 968-3831, TDD (501) 301-3063, Lawrence McCullough.

California State Office, 430 G Street, #4169, Davis, CA 95616-4169, (530) 792-5816, TDD (530) 792-5848, Robert P. Anderson.

Colorado State Office, 655 Parfet Street, Room E100, Lakewood, CO 80215, (720) 544-2918, TDD (800) 659-2656, Donald Pierce.

Connecticut—Served by Massachusetts State Office.

Delaware & Maryland State Office, 4607 South DuPont Highway, P.O. Box 400, Camden, DE 19934-9998, (302) 697-4319, TDD (302) 697-4303, Mr. Stacey Slacum.

Florida & Virgin Islands State Office, 4440 NW 25th Place, Gainesville, FL 32606-6563, (352) 338-3436, TDD (352) 338-3499, Daryl Cooper.

Georgia State Office, Stephens Federal Building, 355 E. Hancock Avenue, Athens, GA 30601-2768, (706) 546-2169, TDD (706) 546-2034, Joseph Walden.

Guam—Served by Hawaii State Office.

Hawaii State Office (Services all Hawaii, American Samoa and Western Pacific), Room 311, Federal Building, 154 Waianuenue Avenue, Hilo, HI 96720, (808) 933-8309, TDD (808) 933-8321, Ms. Robin Sato.

Idaho State Office, Suite A1, 9173 West Barnes Dr., Boise, ID 83709, (208) 378-5627, TDD (208) 378-5644, Ms. Roni Atkins.

Illinois State Office, 2118 West Park Court, Suite A, Champaign, IL 61821-2986, (217) 403-6222, TDD (217) 403-6240, Barry L. Ramsey.

Indiana State Office, 5975 Lakeside Boulevard, Indianapolis, IN 46278, (317) 290-3100 ext. 413, TDD (317) 290-3343, Paul Neumann.

Iowa State Office, 210 Walnut Street, Room 873, Des Moines, IA 50309, (515) 284-4663, TDD (515) 284-4858, Bruce McGuire.

Kansas State Office, 1303 SW First American Place, Suite 100, Topeka, KS 66604-4040, (785) 271-2700, TDD (785) 271-2767, Tim Rogers.

Kentucky State Office, 771 Corporate Drive, Suite 200, Lexington, KY 40503, (859) 224-7416, TDD (859) 224-7422, Mr. Denver Parks.

Louisiana State Office, 3727 Government Street, Alexandria, LA 71302, (318) 473-7920, TDD (318) 473-7655, Debbie Redfearn.

Maine State Office, 967 Illinois Ave., Suite 4, P.O. Box 405, Bangor, ME 04402-0405, (207) 990-9118, TDD (207) 942-7331, Dale Holmes.

Maryland—Served by Delaware State Office.

Massachusetts, Connecticut, & Rhode Island State Office, 451 West Street, Suite 2, Amherst, MA 01002, (413) 253-4333, TDD (413) 253-4590, Don Colburn.

Michigan State Office, 3001 Coolidge Road, Suite 200, East Lansing, MI 48823, (517) 324-5192, TDD (517) 337-6795, Philip Wolak.

Minnesota State Office, 375 Jackson Street Building, Suite 410, St. Paul, MN 55101, (651) 602-7835, TDD (651) 602-7830, Lance Larson.

Mississippi State Office, Federal Building, Suite 831, 100 W. Capitol Street, Jackson, MS 39269, (601) 965-4325, TDD (601) 965-5850, John Jones.

Missouri State Office, 601 Business Loop 70 West, Parkade Center, Suite 235, Columbia, MO 65203, (573) 876-9301, TDD (573) 876-9480, Mr. Randy Griffith.

Montana State Office, Unit 1, Suite B, 900 Technology Blvd., Bozeman, MT 59715, (406) 585-2551, TDD (406) 585-2562, Deborah Chorlton.

Nebraska State Office, Federal Building, Room 152, 100 Centennial Mall N, Lincoln, NE 68508, (402) 437-5574, TDD (402) 437-5093, Mike Buethe.

Nevada State Office, 1390 South Curry Street, Carson City, NV 89703-9910, (775) 887-1222, TDD (775) 885-0633, William Brewer.

New Hampshire State Office—Served by Vermont State Office.

New Jersey State Office, 5th Floor North, Suite 500, 8000 Midlantic Drive, Mt. Laurel, NJ 08054, (856) 787-7731, TDD (856) 787-7784, George Hyatt, Jr.

New Mexico State Office, 6200 Jefferson St., NE, Room 255, Albuquerque, NM 87109, (505) 761-4973, TDD (505) 761-4938, Bill Culbertson.

New York State Office, The Galleries of Syracuse, 441 S. Salina Street, Suite 357 5th Floor, Syracuse, NY 13202, (315) 477-6419, TDD (315) 477-6447, George N. VonPless.

North Carolina State Office, 4405 Bland Road, Suite 260, Raleigh, NC 27609, (919) 873-2041, TDD (919) 873-2003, Mr. Melchior Ellis.

North Dakota State Office, Federal Building, Room 208, 220 East Rosser, P.O. Box 1737, Bismarck, ND 58502, (701) 530-2044, TDD (701) 530-2113, Don Warren.

Ohio State Office, Federal Building, Room 507, 200 North High Street, Columbus, OH 43215-2477, (614) 255-2401, TDD (614) 255-2554, Gerald Arnott.

Oklahoma State Office, 100 USDA, Suite 108, Stillwater, OK 74074-2654, (405) 742-1073, TDD (405) 742-1007, Mr. Jerry Efurd.

Oregon State Office, 101 SW Main, Suite 1410, Portland, OR 97204-3222, (503) 414-3339, TDD (503)414-3387, Sharon Shaffer.

Pennsylvania State Office, One Credit Union Place, Suite 330, Harrisburg, PA 17110-2996, (717) 237-2279, TDD (717) 237-2261, Frank Wetherhold.

Puerto Rico State Office, IBM Building, Suite 601, Munoz Rivera Ave., #654, San Juan, PR 00918, (787) 766-5095, TDD (787) 766-5332, Pedro Gomez.

Rhode Island—Served by Massachusetts State Office.

South Carolina State Office, Strom Thurmond Federal Building, 1835 Assembly Street, Room 1007, Columbia, SC 29201, (803) 253-3655, TDD (803) 765-5697, Herbert R. Koon, Jr.

South Dakota State Office, Federal Building, Room 210, 200 Fourth Street, SW., Huron, SD 57350, (605) 352-1135, TDD (605) 352-1147, Roger Hazuka.

Tennessee State Office, Suite 300, 3322 West End Avenue, Nashville, TN 37203-1084, (615) 783-1375, TDD (615) 783-1397, Ben Lasater.

Texas State Office, Federal Building, Suite 102, 101 South Main, Temple, TX 76501, (254) 742-9765, TDD (254) 742-9712, Mike Meehan.

Utah State Office, Wallace F. Bennett Federal Building, 125 S. State Street, Room 4311, Salt Lake City, UT 84138, (801) 524-4323, TDD (801) 524-3309, Dave Brown.

Vermont & New Hampshire State Office, City Center, 3rd Floor, 89 Main Street, Montpelier, VT 05602, (802) 828-6015, TDD (802) 223-6365, Robert McDonald.

Virgin Islands—Served by Florida State Office.

Virginia State Office, Culpeper Building, Suite 238, 1606 Santa Rosa Road, Richmond, VA 23229, (804) 287-1603, TDD (804) 287-1753, James Reid.

Washington State Office, 1835 Black Lake Blvd., Suite B, Olympia, WA 98512, (360) 704-7704, TDD (360) 704-7742, Karen Bailor.

Western Pacific Territories—Served by Hawaii State Office.

West Virginia State Office, Federal Building, 75 High Street, Room 320, Morgantown, WV 26505-7500, (304) 284-4867, TDD (304) 284-4836, Dianne Goff Crysler.

Wisconsin State Office, 4949 Kirschling Court, Stevens Point, WI 54481, (715) 345-7600, TDD (715) 345-7614, Peter Kohnen.

Wyoming State Office, 100 East B, Federal Building, Room 1005, P.O. Box 820, Casper, WY 82602, (307) 233-6715, TDD (307) 261-6333, Jack Hyde.

(2) All preapplications shall be accompanied by the following information which will be used to determine the applicant's eligibility to undertake a TSA program and to determine whether the applicant might be funded:

(i) A narrative presentation of the applicant's proposed TSA program, including:

(A) The technical and supervisory assistance to be provided;

(B) The time schedule for implementing the program;

(C) The staffing pattern to execute the program and salary range for each position, existing and proposed;

(D) The estimated number of low-income and low-income minority families the applicant will assist in obtaining affordable adequate housing;

(E) The estimated number of Rural Development borrowers who are delinquent or being foreclosed that the applicant will assist in resolving their financial problems relating to their delinquency;

(F) The estimated number of households which will be assisted in obtaining adequate housing in the TSA area through new construction and/or rehabilitation;

(G) Annual estimated budget for each of the two years based on the financial needs to accomplish the objectives outlined in the proposal. The budget should include proposed direct and indirect costs for personnel, fringe benefits, travel, equipment, supplies, contracts, and other costs categories, detailing those costs for which the grantee proposes to use the TSA grant separately from non-TSA resources, if any;

(H) The accounting system (cash or accrual) to be used;

(I) The method of evaluation proposed to be used by the applicant to determine the effectiveness of its program;

(J) The sources and estimated amounts of other financial resources to be obtained and used by the applicant for both TSA activities and housing development and/or supporting facilities; and,

(K) Any other information necessary to explain the manner of delivering the TSA assistance proposed.

(ii) Complete information about the applicant's previous experience and capacity to carry out the objectives of the proposed TSA program;

(iii) Evidence of the applicant's legal existence, including, in the case of a private nonprofit organization, a copy of, or an accurate reference to, the specific provisions of State law under which the applicant is organized; a certified copy of the applicant's Articles of Incorporation and Bylaws or other evidence of corporate existence; certificate of incorporation for other than public bodies; evidence of good standing from the State when the corporation has been in existence one year or more; the names and addresses of the applicant's members, directors, and officers; and, if another organization is a member of the applicant-organization, its name, address, and principal business.

(iv) For a private nonprofit entity, a current financial statement dated and signed by an authorized officer of the entity showing the amounts and specific nature of assets and liabilities together with information on the repayment schedule and status of any debt(s) owed by the applicant. If the applicant is an organization being assisted by another private nonprofit organization, the same type of financial statement should also be provided by that organization.

(v) A brief narrative statement which includes information about the area to be served and the need for improved housing (including both percentage and actual number of both low-income and low-income minority families and substandard housing), the need for the type of technical and supervisory assistance being proposed, the method of evaluation to be used by the applicant in determining the effectiveness of its efforts (as related to paragraph (a)(2)(i) of this section), and any other information necessary to specifically address the selection criteria in 7 CFR 1944.529.

(vi) A list of other activities the applicant is engaged in and expects to continue and a statement as to any other funding and whether it will have sufficient funds to assure continued operation of the other activities for at least the period of the TSA grant agreement.

(3) An applicant should submit written statements from the county, parish, or township governments of the area affected that the project is beneficial and does not duplicate current activities. If the local governmental units will not provide such statements, the applicant will prepare and include with its preapplication a summary of its analysis of alternatives considered under 7 CFR 1944.514 (c). However, Indian nonprofit organization applicants should obtain the written concurrence of the Tribal governing body in lieu of the concurrence of the county governments.

(4) Sponsored applicants should submit a written commitment for financial and/or technical assistance from their sponsoring entity.

(5) Rural Development will deal only with authorized representatives designated by the applicant. The authorized representatives must have no pecuniary interest in any of the following as they would relate in any way to the TSA grant: the award of any engineering, architectural, management, administration, or construction contracts; purchase of the furnishings, fixtures or equipment; or purchase and/or development of land. (Note: Rural Development has designated the Area Office as the primary point of contact for all matters relating to the TSA program and as the office responsible for the administration of approved TSA projects.)

Intergovernmental Review. This program is subject to the provisions of Executive Order 12372, which requires intergovernmental consultation with State and local officials.

V. Application Review Information

Within 30 days of the closing date for receipt of preapplications, the State Director will forward to the National Office the original preapplication(s) and supporting documents of the selected applicant(s), including any comments received in accordance with 7 CFR part 3015, “Intergovernmental Review of Agriculture Programs and Activities,” (See RD Instruction 1940-J, available in any Rural Development Office) and the comments and recommendations of the Local Office(s), Area Office(s), and the State Office. The State Office may submit multiple preapplications, ranked in order of preference, to the National Office for consideration.

Concurrently the State Office will send a copy of the selected applicant's Form SF-424 and relevant documents to the Regional Office of the General Counsel (OGC) requesting a legal determination be made of the applicant's legal existence and authority to conduct the proposed program of technical and supervisory assistance.

The State Office will notify other applicants that their preapplications were not selected and advise them of their appeal rights under 7 CFR part 11.

Selection Criteria

(1) Proposals must meet the following criteria:

(i) Provide a program of supervisory assistance as defined in 7 CFR 1944.506(h); and,

(ii) Serve areas with a concentration of substandard housing and low-income and low-income minority households.

(2) For proposals meeting the requirements listed in paragraph (1) above, Rural Development will use the weighted criteria in this paragraph in the selection of grant recipients. Each preapplication and its accompanying narrative will be evaluated and the applicant's proposal will be numerically rated on each criterion. The highest-ranking proposals will be selected for funding according to award information, described above. The criteria considered, the method of measurement, and the points to be awarded are:

(i) The extent to which the program serves areas with concentrations of Rural Development single family housing loan borrowers who are delinquent in their housing loan payments and/or threatened with foreclosure. Measured by whether the applicant proposes to offer delinquency counseling services for Rural Development borrowers. Program will offer delinquency counseling services: 5 points.

(ii) The capability and past performance demonstrated by the applicant in administering its programs, the effectiveness of current efforts by the applicant to assist low-income families in obtaining adequate housing, the extent to which the proposed staff and salary ranges will meet the objective of the program, the anticipated capacity of the applicant to implement the proposed time schedule for starting and completing the TSA program and each phase thereof, and the adequacy of records and practices (including personnel procedures and practices) that will be established and maintained by the applicant during the term of the agreement. Measured on whether the applicant organization or members of the applicant organization's staff conducting the proposed TSA program have, in the last two years, successfully conducted a TSA or similar program to assist low-income families in becoming successful homeowners. Have conducted a similar program, not TSA: 5 points; OR, have conducted a TSA program, 10 points.

(iii) The extent to which the program will provide or increase the delivery of housing resources to low-income and low-income minority families in the areas who are not currently occupying adequate housing.

(A) Measured by the county Poverty Rate, as reported in Census 2000 Summary File 3 (SF 3) Report GCT-P14, “Income and Poverty in 1999:2000.” This information may be obtained on the Internet from the U.S. Census Bureau Web site, “American Fact Finder,” at factfinder.census.gov.

(1) 25.1% or higher: 30 points.

(2) 14.7% to 25.0%: A total of 2.86 points, rounded to the nearest whole number, for each percentage point above 14.6%.

(3) 14.6% or less: 0 points.

Example: According to Census 2000, the service area Poverty Rate is 18.0 percent. This is 3.4 points above the National Non-Metropolitan Area Average of 14.6 percent. This proposal would be scored with 10 points (3.4 × 2.86 = 9.7).

(B) Measured by the degree of deficient housing, based on the combination of the county's percentage of housing units lacking complete plumbing facilities plus percentage of housing units lacking complete kitchen facilities (referred to as deficient housing factor), as reported in Census 2000 SF 3 Report GCT-H7, “Structural and Facility Characteristics of All Housing Units: 2000.” This information may be obtained on the Internet from the U.S. Census Bureau Web site, “American Fact Finder,” at factfinder.census.gov.

(1) Deficient housing factor 13.0 or greater: 30 points.

(2) Factor 5.1 to 13.0: A total of 3.75 points, rounded to the nearest whole number, for each point above 5.0.

(3) Factor 5.0 or lower: 0 points.

Example: Of the total housing units in the service area, 5.0 percent lack complete plumbing and 4.5 percent lack complete kitchen facilities, according to Census 2000. Adding these two percentages provides a “deficient housing index” of 9.5. This is 4.5 points above the National Non-Metropolitan Area Average of 5.0. This would result in a score of 17 points (9.5 − 5.0 = 4.5 × 3.75 = 16.875).

(C) For programs serving multi-county areas, scoring will be determined based upon the combined totals for the counties entire service area. County data (not smaller areas) will be used for evaluation.

(iv) The extent to which the program will make use of other financial and contribution-in-kind resources and be cost effective. The cost, both direct and indirect, per person benefiting from the program will be measured by the proposed total number of low-income participants who obtain suitable housing within the period of the grant as a result of participation in the comprehensive TSA program, compared to amount of the TSA grant. Scoring will be based on the TSA grant funds expended per participant who purchases suitable housing.

(A) $1,000 or less: 30 points

(B) More than $1,000: $1,500 divided by amount expended per participant, multiplied by 20 points.

Example: The applicant organization's program of homebuyer training and loan packaging proposes to produce 60 homeowners during the two-year grant. Funding for the program includes a $75,000 TSA grant, $20,000 from a State grant and $10,000 of contribution-in-kind from the organization for office assistance. The TSA cost per homeowner produced is $75,000 / 60 = $1,250. Point calculation—$1,500 / $1,250 = 1.2 × 20 = 24 points.

(v) The extent to which the program will be cost effective in personnel to be hired to the cost of the program. Measured by the number of full-time employees or equivalents of the applicant organization working on the program. One or more employees, 5 points.

(vi) The extent to which the program is effective in providing expected benefits to low-income families. Measured by the proposed total number of low-income participants who obtain suitable housing within the period of the grant as a result of participation in the comprehensive TSA program. More than 25 new homeowners: 5 points, OR more than 50 new homeowners: 10 points.

(vii) The services the applicants will provide are not presently available in the proposed service area to assist low-income families in obtaining or maintaining occupancy of adequate housing and the extent of duplication of technical and supervisory assistance activities currently provided for low-income families. Measured by comments received. Proposed services not duplicated in the area: 10 points.

(viii) The extent of citizen and local government participation and involvement in the development of the preapplication and the project and coordination with other Federal, State or local technical and/or supervisory assistance programs. Measured by letter(s) or similar documentation from local government officials, businesses and individuals detailing participation and coordination in the project by groups other than the applicant. Evidence of participation in the project by groups other than the applicant: 10 points.

(ix) For programs proposed by nonprofit entities, whether the applicant has a commitment of financial and/or technical assistance to apply for the TSA program and to implement such a program from a State, county, municipality, or other government entity or public body. Measured by letter(s) or similar documentation from government entities or public body committing financial and/or technical assistance. Applicant is a government entity or public body OR is a nonprofit entity with evidence of commitment of financial and/or technical assistance from a government entity or public body: 10 points.

VI. Award Administration Information

Upon notification that the applicant has been tentatively selected for funding, the State Office will notify the applicant and provide instructions for preparation of a formal application. The applicant will submit all completed forms required for a formal application and provide whatever additional information is requested to the Area Office within 30 days.

The Area Office will assemble a formal application docket, which will include the following:

(1) Form SF-424 and the information submitted in accordance with 7 CFR 1944.526 (a)(2) (pre-application package);

(2) Any comments received in accordance with 7 CFR part 3015, subpart V, “Intergovernmental Review of Department of Agriculture Programs and Activities.” See RD Instruction 1940-J, available in any Rural Development Office.

(3) OGC legal determination made pursuant to 7 CFR 1944.526 (c)(3).

(4) Grant Agreement.

(5) Form RD 1940-1, “Request for Obligation of Funds.”

(6) Form RD 400-1, “Equal Opportunity Agreement.”

(7) Form RD 400-4, “Nondiscrimination Agreement.”

(8) Form AD-1047, “Certification Regarding Debarment, Suspension and Other Responsibility Matters—Primary Covered Transactions.”

(9) Form AD-1049, “Certification Regarding Drug-Free Workplace Requirements (Grants), Alternative I—For Grantees Other Than Individuals.”

(10) Form RD 1940-20, “Request for Environmental Information.”

(11) Form RD 1940-22, “Environmental Checklist for Categorical Exclusions,” Form RD 1940-21, “Environmental Assessment for Class I Actions” or Exhibit G of 7 CFR part 1940, subpart G entitled, “Environmental Assessment for Class II Actions.”

(12) The historical and archaeological assessment.

(13) The detailed budget for the agreement period based upon the needs outlined in the proposal and the comments and recommendations by Rural Development.

(14) Verification of Debarment Listing check and Federal Debt Listing check.

(15) Form RD 2006-38, “Civil Rights Impact Analysis.”

Reporting requirements. Form SF-269, “Financial Status Report,” and a project performance report will be required of all grantees on a quarterly basis. All grantees shall submit an original and two copies of these reports to the Area Office. The project performance reports will be submitted not later than January 15, April 15, July 15, and October 15 of each year.

As part of the grantee's preapplication submission required by 7 CFR 1944.526(a)(2)(i), the grantee established the objectives of its TSA program including the estimated number of low-income families to be assisted by the TSA program and established its method of evaluation to determine the effectiveness of its program. The project performance report should relate the activities during the report period to the project's objectives and analyze the effectiveness of the program. The grantee will complete a final Form SF-269 and a final performance report upon termination or expiration of the grant agreement.

Grant monitoring. Each grant will be monitored by Rural Development to ensure that the grantee is complying with the terms of the grant and that the TSA project activity is completed as approved. Ordinarily, this will involve a review of quarterly and final reports by Rural Development and review by the appropriate Area Office.

Additional grants. An additional grant may be made to an applicant that has previously received a TSA grant and has achieved or nearly achieved the goals established for the previous grant by submitting a new proposal for TSA funds. The additional grant application will be processed as if it were an initial application.

Management assistance. The Area Office will see that each TSA grantee receives management assistance to help achieve a successful program.

(1) TSA employees who will be contacting and assisting families will receive training in packaging single family housing and Rural Rental Housing loans when, or very shortly after, they are hired so that they can work effectively.

(2) TSA employees who will provide counseling, outreach, and other technical and supervisory assistance will receive training on Rural Development policies, procedures, and requirements appropriate to their positions and the type of assistance the grantee will provide at the outset of the grant.

(3) Training will be provided by Rural Development employees and/or outside sources approved by Rural Development when the technical and supervisory assistance involves rural housing programs other than Rural Development programs. Appropriate training of TSA employees should be anticipated during the planning stages of the grant and the reasonable cost of such training included in the budget.

(4) The Area Office, in cooperation with the appropriate Local Office(s), should coordinate the management assistance given to the TSA grantee in a manner which is timely and effective. This will require periodic meetings with the grantee to discuss problems being encountered and offer assistance in solving these problems; to discuss the budget, the effectiveness of the grant, and any other unusual circumstances affecting delivery of the proposed TSA services; to keep the grantee aware of procedural and policy changes, availability of funds, etc.; and to discuss any other matters affecting the availability of housing opportunities for low-income families.

(5) The Area and/or Local Office will advise the grantee of the options available to bring the delinquent borrowers' accounts current and advise the grantee that the appropriate approval authority for any resolution of the delinquent accounts and all other authority currently available to remedy delinquent accounts.

Grant evaluation, closeout, suspension, and termination. Grant evaluation will be an ongoing activity performed by both the grantee and Rural Development. The grantee will perform self-evaluations by preparing periodic project performance reports in accordance with 7 CFR 1944.541. Rural Development will also review all reports prepared and submitted by the grantee in accordance with the grant agreement and 7 CFR part 1944, subpart K.

Within forty-five (45) days after the grant ending date, the grantee will complete closeout procedures as specified in the grant agreement.

The grant can also be terminated before the grant ending date for the causes specified in the grant agreement. No further grant funds will be disbursed when grant suspension or termination procedures have been initiated in accordance with the grant agreement.

VII. Agency Contacts

Donn Appleman, Senior Loan Specialist, USDA Rural Development, Single Family Housing Direct Loan Division, Special Programs and New Initiatives Branch, Mail Stop 0783, Room 2209-S, 1400 Independence Avenue SW., Washington, DC 20250-0783, phone: (202) 690-0510 or (202) 720-1474, e-mail: donn.appleman@usda.gov, or FAX: (202) 690-9909.

VIII. Other Information

Information about TSA grants and other Rural Development Housing Programs can be obtained at the Rural Development Web site at www.rurdev.usda.gov. Questions can also be sent by e-mail to agsec@usda.gov.

Dated: June 15, 2004.
James C. Alsop,
Acting Administrator, Rural Housing Service.

[FR Doc. 04-14909 Filed 6-30-04; 8:45 am]

BILLING CODE 3410-XV-P